DEPARTMENT OF THE INTERIOR

National Park Service

Notice of Inventory Completion: U.S. Department of the Interior, Bureau of Indian Affairs, Washington, DC, and Arizona State Museum, University of Arizona, Tucson, AZ

AGENCY: National Park Service, Interior.

ACTION: Notice.

Notice is here given in accordance with the Native American Graves Protection and Repatriation Act (NAGPRA), 25 U.S.C. 3003, of the completion of an inventory of human remains in the control of the U.S. Department of the Interior, Bureau of Indian Affairs, Washington, DC, and in the physical custody of the Arizona State Museum, University of Arizona, Tucson, AZ. The human remains were removed from sites within the boundaries of the Gila River Indian Reservation, Pinal County, AZ.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Bureau of Indian Affairs professional staff and Arizona State Museum professional staff in consultation with representatives of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico. The Zuni Tribe has withdrawn from this consultation. The Gila River Indian Community of the Gila River Indian Reservation, Arizona is acting on behalf of the Ak Chin Indian Community of the Maricopa (Ak Chin) Indian Reservation, Arizona; Salt River Pima-Maricopa Indian Community of the Salt River Reservation, Arizona; and Tohono O'odham Nation of Arizona; and themselves.

During the years 1971-1973, human remains representing a minimum of six individuals were removed from sites designated GR 2752, GR 2910, GR 3053, and AZ U:13:35 ASM, on the Gila River Indian Reservation, Pinal County, AZ, by Donald Wood, staff member of the Arizona State Museum. The human remains were originally classified as faunal remains. In 2005, a staff member of the Arizona State Museum examined collections of faunal bones from sites on the Gila River Indian Reservation and reclassified these six sets of remains as human bone. These are fragmentary sets of human remains that were not collected from recognized mortuary contexts. No known individuals were identified. No associated funerary objects are present. Additional human remains from the same survey, representing a minimum of three individuals, were reported in a Notice of Inventory Completion published in the Federal Register on December 29, 2000 (Volume 65, Number 251, page 83081).

Based on characteristics of the mortuary program, the human remains have been identified as having a high probability of association with the archeologically-defined Hohokam tradition, which spans the years circa A.D. 500-1350/1400.

In 1974, human remains representing a minimum of one individual were removed from site AZ U:13:65 ASM on the Gila River Indian Reservation, Pinal County, AZ, during archeological investigations conducted by the Arizona State Museum under the direction of Gwinn Vivian as part of the Queen Creek Floodway project. The human remains were originally classified as faunal remains. In 2005, a staff member of the Arizona State Museum examined collections of faunal bones from sites on the Gila River Indian Reservation and reclassified these remains as human bone. These are fragmentary human remains that were collected from the surface and not from a recognized mortuary context. No known individual was identified. No associated funerary objects are present.

Based on characteristics of the mortuary pattern and the attributes of the ceramic style, the human remains have been identified as having a high probability of being associated with the Classic Period of the Hohokam archeological tradition, which spanned the years circa A.D. 1150-1350/1400.

Continuities of mortuary practices, ethnographic materials, and technology indicate affiliation of Hohokam settlements with present-day O'odham (Piman), Pee Posh (Maricopa), and Puebloan cultures. Oral traditions documented for the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico support affiliation with Hohokam sites in central Arizona.

Officials of the Bureau of Indian Affairs and Arizona State Museum have determined that, pursuant to 25 U.S.C. 3001 (9-10), the human remains described above represent the physical remains of seven individuals of Native American ancestry. Officials of the Bureau of Indian Affairs and Arizona State Museum have also determined that, pursuant to 25 U.S.C. 3001 (2), there is a relationship of shared group identity that can be reasonably traced between the Native American human remains and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains should contact John Madsen, Repatriation Coordinator, Arizona State Museum, University of Arizona, Tucson, AZ 85721, telephone (520) 621-4795, before September 2, 2005. Repatriation of the human remains to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: July 11, 2005
Sherry Hutt,
Manager, National NAGPRA Program.

[FR Doc. 05-15321 Filed 8-2-05; 8:45 am]

BILLING CODE 4312-50-S